DEPARTMENT OF ENERGY

Federal Energy Regulatory Commission

[Docket Nos. CP05-119-000, CP05-120-000, and CP05-121-000]

Cameron LNG, LLC; Cameron Interstate Pipeline, LLC; Notice of Application

April 20, 2005.

Take notice that on April 11, 2005, Cameron LNG, LLC and Cameron Interstate Pipeline, LLC, 101 Ash Street, San Diego, CA 92101, filed in the above-referenced dockets, applications for: (1) abandonment by intra-corporate transfer pursuant to section 7(b) of the Natural Gas Act of the pipeline certificates issued to Cameron LNG, LLC at Docket Nos. CP02-374-000, CP02-376-000 and CP02-377-000; and (2) a certificate of public convenience and necessity under section 7(c) of the Natural Gas Act and Part 157, Subpart A of the Commission's regulations authorizing Cameron Interstate Pipeline to construct, own, operate, and maintain the pipeline facilities described therein. Cameron Interstate Pipeline also seeks (a) a blanket certificate pursuant to Part 157, Subpart F of the Commission's regulations; and (b) a blanket certificate pursuant to Part 284, Subpart G of the Commission's regulations.

The applications are on file with the Commission and open to public inspection. The filing may also be viewed on the Web at http://www.ferc.gov using the “eLibrary” link. Enter the docket number excluding the last three digits in the docket number field to access the document. For assistance, call (202) 502-3676 or TYY, (202) 502-8659. Any questions regarding the parties' application should be directed to: Carlos F. Pefia, Senior Regulatory Counsel, HQI3, 101 Ash Street, San Diego, CA, 92101; phone (619) 699-5037.

Cameron LNG, LLC proposes to transfer development of the previously certificated interstate pipeline aspects of its project to Cameron Interstate Pipeline, LLC. The application states that there will be no change to the siting, operation and maintenance of the pipeline as previously certificated at Docket Nos. CP02-374-000, CP02-376-000 and CP02-377-000.

Any person desiring to intervene or to protest this filing must file in accordance with Rules 211 and 214 of the Commission's Rules of Practice and Procedure (18 CFR 385.211 and 385.214). Protests will be considered by the Commission in determining the appropriate action to be taken, but will not serve to make Protestants parties to the proceeding. Any person wishing to become a party must file a notice of intervention or motion to intervene, as appropriate. Such notices, motions, or protests must be filed on or before the comment date shown below. Anyone filing a motion to intervene or protest must serve a copy of that document on the Applicant. On or before the comment date, it is not necessary to serve motions to intervene or protests on persons other than the Applicant.

The Commission encourages electronic submission of protests and interventions in lieu of paper using the “efiling” link at http://www.ferc.gov. Persons unable to file electronically should submit an original and 14 copies of the protest or intervention to the Federal Energy Regulatory Commission, 888 First Street, NE., Washington, DC 20426. There is an “esubscription” link on the Web site that enables subscribers to receive e-mail notification when a document is added to a subscribed docket(s). For assistance with any FERC Online service, please e-mail FERCOnlineSupport@,ferc.gov, or call (866) 208-3676 (toll free). For TTY, call (202) 502-8659.

Comment Date: May 11, 2005.

Magalie R. Salas,
Secretary.

[FR Doc. E5-2017 Filed 4-27-05; 8:45 am]

BILLING CODE 6717-01-P